DEPARTMENT OF TRANSPORTATION

Federal Aviation Administration

14 CFR Part 39

[Docket No. 2000-NM-45-AD; Amendment 39-12301; AD 2001-13-19]

RIN 2120-AA64

Airworthiness Directives; Bombardier Model DHC-8-102, -103, -106, -201, -202, -301, -311, -314, and -315 Series Airplanes

AGENCY: Federal Aviation Administration, DOT.

ACTION: Final rule.

SUMMARY: This amendment adopts a new airworthiness directive (AD), applicable to all Bombardier Model DHC-8-102, -103, -106, -201, -202, -301, -311, -314, and -315 series airplanes, that requires revising the Bombardier maintenance program to incorporate repetitive inspections to detect fatigue cracking in certain structures; and corrective actions, if necessary. This amendment is prompted by issuance of mandatory continuing airworthiness information issued by a foreign airworthiness authority. The actions specified by this AD are intended to ensure that fatigue cracking of certain principal structural elements is detected and corrected; such fatigue cracking could adversely affect the structural integrity of these airplanes.

DATES: Effective August 10, 2001.

The incorporation by reference of certain publications listed in the regulations is approved by the Director of the Federal Register as of August 10, 2001.

ADDRESSES: The service information referenced in this AD may be obtained from Bombardier, Inc., Bombardier Regional Aircraft Division, 123 Garratt Boulevard, Downsview, Ontario M3K 1Y5, Canada. This information may be examined at the Federal Aviation Administration (FAA), Transport Airplane Directorate, Rules Docket, 1601 Lind Avenue, SW., Renton, Washington; or at the FAA, New York Aircraft Certification Office, 10 Fifth Street, Third Floor, Valley Stream, New York; or at the Office of the Federal Register, 800 North Capitol Street, NW., suite 700, Washington, DC.

FOR FURTHER INFORMATION CONTACT: Serge Napoleon, Aerospace Engineer, ANE-171, FAA, New York Aircraft Certification Office, 10 Fifth Street, Third Floor, Valley Stream, New York 11581; telephone (516) 256-7512; fax (516) 568-2716.

SUPPLEMENTARY INFORMATION: A proposal to amend part 39 of the Federal Aviation Regulations (14 CFR part 39) to include an airworthiness directive (AD) that is applicable to all Bombardier Model DHC-8-102, -103, -106, -201, -202, -301, -311, -314, and -315 series airplanes was published in the Federal Register on February 14, 2001 (66 FR 10238). That action proposed to require revising the Bombardier maintenance program to incorporate repetitive inspections to detect fatigue cracking in certain structures; and corrective actions, if necessary.

Comments

Interested persons have been afforded an opportunity to participate in the making of this amendment. No comments were submitted in response to the proposal or the FAA's determination of the cost to the public.

Editorial Change

The language in paragraph (a)(2)(iii) has been slightly revised to clarify the intervals for certain repetitive inspections.

Conclusion

After careful review of the available data, the FAA has determined that air safety and the public interest require the adoption of the rule as proposed with the clarification described previously. The FAA has determined that this change will neither increase the economic burden on any operator nor increase the scope of the AD.

Cost Impact

The FAA estimates that 195 Model DHC-8-102, -103, -106, -201, -202, -301, -311, -314, and -315 series airplanes of U.S. registry will be affected by this AD.

It will take approximately 1 work hour per airplane to revise the Bombardier maintenance program, at an average labor rate of $60 per work hour. Based on these figures, the cost impact of the revision on U.S. operators is estimated to be $11,700, or $60 per airplane.

It will take approximately 5 work hours per airplane to accomplish the required structural inspections, at an average labor rate of $60 per work hour. Based on these figures, the cost impact of the inspections on U.S. operators is estimated to be $58,500, or $300 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-13-19 Bombardier, Inc. (Formerly de Havilland, Inc.): Amendment 39-12301. Docket 2000-NM-45-AD.

Applicability: Model DHC-8-102, -103, -106, -201, -202, -301, -311, -314, and -315 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To ensure continued structural integrity of these airplanes, accomplish the following:

(a) Within 30 days after the effective date of this AD, accomplish the actions required by either paragraph (a)(1) or (a)(2) of this AD, as applicable.

Maintenance Program Revisions

(1) Revise the Bombardier maintenance program by incorporating the threshold and repetitive inspection intervals specified in the Temporary Revisions (TR's) to the DHC-8 Maintenance Program Manuals, Airworthiness Limitations List (AWL), Structural Inspection Program Task No. 5310/31A, into the Bombardier maintenance program. The TR's for specific airplane models are listed in Table 1, as follows:

Table 1.—List of Temporary Revisions
Bombardier models | TR No. | Date
DHC-8-102, -103, and -106 series airplanes | TR AWL-71 | September 3, 1999.
DHC-8-102, -103, -106, -201, -202, -301, -311, -314, and -315 series airplanes | TR AWL 2-15 | September 3, 1999.
DHC-8-301, -311, -314, and -315 series airplanes | TR AWL 3-78 | November 19, 1999.

Note 2: When the TR documents listed in Table 1 in paragraph (a)(1) of this AD are incorporated into the general revisions of the DHC-8 Maintenance Program Manual, you may insert the general revisions into the Bombardier maintenance program, provided that the information contained in the general revisions is identical to that specified in the TR documents.

Structural Inspections

(2) For airplanes having closing angles that are identified as principal structural elements: Do the inspections specified by the applicable TR listed in Table 1 of paragraph (a) of this AD. Thereafter, repeat the inspection at intervals not to exceed 10,000 flight cycles at the time specified in paragraph (a)(2)(i), (a)(2)(ii), or (a)(2)(iii) of this AD, as applicable.

(i) For airplanes that have accumulated less than 8,000 flight cycles as of the effective date of this AD: Do the threshold inspection prior to the accomplishment of 10,000 flight cycles, or within 2,000 flight cycles after the effective date of this AD, whichever occurs later.

(ii) For airplanes that have accumulated 8,000 flight cycles or more as of the effective date of this AD: Do the threshold inspection within 2,000 flight cycles after the effective date of this AD.

(iii) For airplanes on which a 40,000 flight cycle inspection specified by the applicable TR listed in Table 1 of paragraph (a) of this AD has been done: Start the 10,000 flight cycle repetitive inspection at the time specified by paragraph (a)(2)(iii)(A) or (a)(2)(iii)(B) of this AD, as applicable.

(A) If no cracks were found, start the cycle from the date of the 40,000 flight cycle inspection.

(B) If cracks have been found and the closing angles have been replaced as provided in paragraph (b) of this AD, start the cycle from the date of the replacement.

Corrective Actions

(b) If any crack is detected during any structural inspection required by paragraph (a)(2) of this AD, before further flight, repair any such cracking or replace the closing angles per a method approved by the Manager, New York Aircraft Certification Office (ACO), FAA; or the Transport Canada Civil Aviation (or its delegated agent). For a repair or replacement method to be approved by the Manager, New York ACO, as required by this paragraph, the Manager's approval letter must specifically reference this AD.

(c) Except as provided by paragraph (d) of this AD: After the actions specified in paragraphs (a) and (b) of this AD have been accomplished, no alternative inspections or inspection intervals may be approved for the structural elements specified by the documents listed in Table 1 of paragraph (a)(1) of this AD.

Alternative Methods of Compliance

(d) An alternative method of compliance or adjustment of the compliance time that provides an acceptable level of safety may be used if approved by the Manager, New York ACO. Operators shall submit their requests through an appropriate FAA Principal Maintenance Inspector, who may add comments and then send it to the Manager, New York ACO.

Note 3: Information concerning the existence of approved alternative methods of compliance with this AD, if any, may be obtained from the New York ACO.

Special Flight Permits

(e) Special flight permits may be issued in accordance with sections 21.197 and 21.199 of the Federal Aviation Regulations (14 CFR 21.197 and 21.199) to operate the airplane to a location where the requirements of this AD can be accomplished.

Incorporation by Reference

(f) Except as provided in paragraph (b) of this AD, the actions shall be done in accordance with de Havilland Temporary Revision TR AWL-71, dated September 3, 1999; de Havilland Temporary Revision TR AWL 2-15, dated September 3, 1999; and de Havilland Temporary Revision TR AWL 3-78, dated November 19, 1999. This incorporation by reference was approved by the Director of the Federal Register in accordance with 5 U.S.C. 552(a) and 1 CFR part 51. Copies may be obtained from Bombardier, Inc., Bombardier Regional Aircraft Division, 123 Garratt Boulevard, Downsview, Ontario M3K 1Y5, Canada. Copies may be inspected at the FAA, Transport Airplane Directorate, 1601 Lind Avenue, SW., Renton, Washington; or at the FAA, New York ACO, 10 Fifth Street, Third Floor, Valley Stream, New York; or at the Office of the Federal Register, 800 North Capitol Street, NW., suite 700, Washington, DC.

Note 4: The subject of this AD is addressed in Canadian airworthiness directive CF-2000-07, dated March 3, 2000.

Effective Date

(g) This amendment becomes effective on August 10, 2001.

Issued in Renton, Washington, on June 26, 2001.
Vi L. Lipski,
Manager, Transport Airplane Directorate, Aircraft Certification Service.

[FR Doc. 01-16736 Filed 7-5-01; 8:45 am]

BILLING CODE 4910-13-U